DEPARTMENT OF JUSTICE

Antitrust Division

Notice Pursuant to the National Cooperative Research and Production Act of 1993—The Digital Subscriber Line Forum

Notice is hereby given that, on September 26, 2003, pursuant to Section 6(a) of the National Cooperative Research and Production Act of 1993, 15 U.S.C. 4301 et seq. (“the Act”), The Digital Subscriber Line Forum (“DSL”) has filed written notifications simultaneously with the Attorney General and the Federal Trade Commission disclosing changes in its membership status. The notifications were filed for the purchase of extending the Act's provisions limiting the recovery of antitrust plaintiffs to actual damages under specified circumstances. Specifically, 1-800 FAST DSL, La Jolla, CA; Be Connected Ltd., Rosh Ha'ayin, ISRAEL; Coppergate Communications, Tel Aviv, ISRAEL; EANTIC, Berlin, GERMANY; Flextronics, Johannesburg, SOUTH AFRICA; ITRI, Chutung, Hsinchu, TAIWAN; Marcoin Communications, Coventry, UNITED KINGDOM; NTCA, Arlington, VA; Operax AB, Lulea, SWEDEN; Serconet, Southborough, MA; SupportSoft, Redwood City, CA; Taicom International Inc., Fremont, CA; and Telecordia Technologies, Morristown, NJ, have been added as parties to this venture. Sonera Corporation is now TeliaSonera AB, Helsinki, FINLAND.

No other changes have been made in either the membership or planned activity of the group research project. Membership in this group research project remains open, and DSL intends to file additional written notifications disclosing all changes in membership.

On May 15, 1995, DSL filed its original notification pursuant to Section 6(a) of the Act. The Department of Justice published a notice in the Federal Register pursuant to Section 6(b) of the Act on July 25, 1995 (60 FR 38058).

The last notification was filed with the Department on July 16, 2003. A notice was published in the Federal Register pursuant to Section 6(b) of the Act on August 15, 2003 (68 FR 48940).

Dorothy B. Fountian,
Deputy Director of Operations, Antitrust Division.

[FR Doc. 03-28245 Filed 11-10-03; 8:45 am]

BILLING CODE 4410-11-M